DEPARTMENT OF TRANSPORTATION

Federal Highway Administration

[Docket No. FHWA-2024-0067]

Emergency Temporary Closure of Eastbound Traffic on the National Network for the Lewis and Clark Viaduct Bridge in Kansas City, Kansas and Kansas City, Missouri

AGENCY: Federal Highway Administration (FHWA), U.S. Department of Transportation (DOT).

ACTION: Notice; request for comments.

SUMMARY: The Kansas Department of Transportation (KDOT) closed for repairs the eastbound portion of Interstate 70 (I-70) on the Lewis and Clark Viaduct Bridge over the Kansas River on September 5, 2024. Closure of the bridge and detour routes extend from Kansas City, Kansas, into Kansas City, Missouri.

The FHWA is providing notice that KDOT is continuing the temporary closure of the Lewis and Clark Viaduct Bridge in the eastbound direction until the bridge can be repaired, which is estimated to be by the end of December 2024. The FHWA is requesting comments from the public on the alternate routes selected by KDOT and the Missouri Department of Transportation (MoDOT) due to the closure.

DATES: Comments must be received on or before December 26, 2024.

ADDRESSES: To ensure that you do not duplicate your docket submissions, please submit them by only one of the following means:

• Federal eRulemaking Portal: Go to www.regulations.gov and follow the online instructions for submitting comments.

• Mail: U.S. Department of Transportation, Docket Operations, M-30, West Building Ground Floor, 1200 New Jersey Avenue SE, Room W12-140, Washington, DC 20590.

• Hand Delivery or Courier: U.S. Department of Transportation, Docket Operations, West Building Ground Floor, Room W12-140, 1200 New Jersey Avenue SE, Washington, DC, between 9:00 a.m. and 5:00 p.m. ET, except Federal holidays.

Instructions: You must include the agency name and docket number [FHWA-2024-0067] at the beginning of your comments. All comments received will be posted without change to www.regulations.gov, including any personal information provided.

FOR FURTHER INFORMATION CONTACT: Michael Latuszek, Office of Freight Management and Operations, FHWA Office of Operations, (573) 616-0415, michael.latuszek@dot.gov; William Winne, Office of the Chief Counsel, (202) 366-0791, william.winne@dot.gov, Federal Highway Administration, 1200 New Jersey Avenue SE, Washington, DC 20590; or Richard Backlund, FHWA Kansas Division, (785) 273-2626, Richard.backlund@dot.gov.

SUPPLEMENTARY INFORMATION:

Electronic Access and Filing

This document and all comments received may be viewed online through the Federal eRulemaking portal at www.regulations.gov. The website is available 24 hours each day, 365 days each year. An electronic copy of this document may also be downloaded by accessing the Office of the Federal Register's website at www.federalregister.gov and the U.S. Government Publishing Office's website at www.govinfo.gov.

Background

The KDOT closed a portion of I-70 in the eastbound direction on the Lewis and Clark Viaduct Bridge over the Kansas River for repairs on September 5, 2024. The FHWA is providing notice that KDOT is continuing the temporary closure until the damaged bridge can be repaired. The estimated time for completion of the repair is the end of calendar year 2024. The FHWA is requesting comments from the public on the alternate routes selected by KDOT and MoDOT due to the closure.

The FHWA is responsible for enforcing the Federal regulations applicable to the National Network (NN) of highways that can safely and efficiently accommodate the large vehicles authorized by provisions of the Surface Transportation Assistance Act of 1982, Public Law 97-424 as amended, designated in accordance with title 23 of the Code of Federal Regulations (CFR) Part 658 (Truck Size and Weight, Route Designations—Length, Width and Weight Limitations) and listed in Appendix A to Part 658. Under 23 CFR 658.11 (Additions, deletions, exceptions, and restrictions), FHWA may approve deletions of, or use restrictions on, the Interstate system or other NN routes based upon specified justification criteria in section 658.11(d)(2). The FHWA is authorized to delete any route from the NN on an emergency basis, based on safety considerations pursuant to § 658.11(e), which also requires publishing this Notice in the Federal Register for comment.

As part of a recent bridge inspection, KDOT inspectors identified concerns with gusset plates on the eastbound portion of this I-70 bridge. Gusset plates are used to connect truss members of a bridge. Gusset plates can be fastened to a permanent truss member by bolts, rivets, or welding, or a combination of the three. Based on the inspection findings, KDOT engineers determined that repairs were needed and closed the eastbound portion of the bridge on September 5, 2024, to vehicles and pedestrians until the repairs are completed.

The Lewis and Clark Viaduct is a series of bridges comprising an interchange with I-70, Minnesota Avenue, Washington Boulevard, and the Fairfax Trafficway in Kansas City, Kansas.

The recommended detours have evolved since the closure of the eastbound I-70 Lewis and Clark Viaduct Bridge and traffic on I-70 is being rerouted as follows:

All eastbound I-70 on-ramps in downtown Kansas City, Kansas, are closed including Minnesota Avenue/4th Street, Washington Boulevard, and the Fairfax Trafficway. Eastbound I-70 traffic is being rerouted to eastbound I-670. The signed detour begins on eastbound I-70 after the 18th Street Expressway (US-69) and before the I-70/I-670 split. Drivers continuing on eastbound I-70 after the I-670 split can access downtown Kansas City, Kansas, at 7th Street, Pacific Avenue, Central Avenue, 5th Street or James Street/3rd Street. Drivers exiting downtown Kansas City, Kansas can access eastbound I-70 via the 18th Street corridor and use the I-670 detour; directly access I-670 via the Central Avenue connection; or cross the Kansas River at James Street to access Kansas City, Missouri.

The I-70 westbound offramp at Central Avenue is also closed. The decision to close this access point was based on discussions between KDOT and the Unified Government of Wyandotte County and Kansas City, Kansas.

Several area Kansas River crossings are currently closed including Central Avenue (local), Kansas Avenue/Avenida Cesar E. Chavez (local), K-5 (KDOT, southbound lanes closed) over the Union Pacific Railroad, and the Buck O'Neil Bridge (US-169, MoDOT).

The closure of eastbound I-70 reduces access to the Fairfax Industrial District, however, there are several detour routes that provide alternative ingress/egress options for the area, including the Fairfax Bridge (US-69), which allows freight traffic to access several interstate highway corridors. The Fairfax Trafficway provides access to westbound I-70 and eastbound I-670 via Central Avenue and Kansas City, Missouri, by way of James Street.

Detour messages are being provided on overhead dynamic message boards; portable message boards have also been strategically deployed throughout the area. The status of road closures and detours has been further disseminated via traveler information systems (i.e. KanDrive, KC Scout).

The KDOT and MoDOT are utilizing social media platforms such as Facebook (@NEKansasKDOT) and X (@KansasCityKDOT), along with periodic media releases to keep the public informed in real-time.

Authority: 23 U.S.C. 127 and 315; 49 U.S.C. 31111, 31112, and 31114; 23 CFR part 658.

Kristin R. White,
Acting Administrator, Federal Highway Administration.

[FR Doc. 2024-27482 Filed 11-22-24; 8:45 am]

BILLING CODE 4910-22-P